DEPARTMENT OF COMMERCE

National Oceanic and Atmospheric Administration

[I.D. 042601F]

Marine Mammals; File No. 633-1483-02

AGENCY: National Marine Fisheries Service (NMFS), National Oceanic and Atmospheric Administration (NOAA), Commerce.

ACTION: Issuance of permit amendment.

SUMMARY: Notice is hereby given that the Center for Coastal Studies (CCS), P.O. Box 1036, Provincetown, MA 02657 (Executive Director: Mr. Peter Borrelli, Principal Investigator: Dr. Charles A. Mayo) has been issued an amendment to scientific research Permit No. 633-1483-01

ADDRESSES: The amendment and related documents are available for review upon written request or by appointment in the following office(s):

Permits and Documentation Division, Office of Protected Resources, NMFS, 1315 East-West Highway, Room 13705, Silver Spring, MD 20910; phone (301)713-2289; fax (301) 713-0376; and

Northeast Region, NMFS, One Blackburn Drive, Gloucester, MA 01930-2298; phone (978) 281-9200; fax (978) 281-9371.

FOR FURTHER INFORMATION CONTACT: Ruth Johnson or Tammy Adams (301) 713-2289.

SUPPLEMENTARY INFORMATION: On October 31, 2000, notice was published in the Federal Register (65 FR 64932) that an amendment of Permit No. 633-1483-01, issued June 14, 1999, and published June 22, 1999 (64 FR 33270), had been requested by the above-named organization. The requested amendment has been granted under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

Project I: Amendment No. 2 authorizes attachment of a non-invasive optical device (“critter cam”) to seven North Atlantic right whales in Cape Cod Bay for collecting video documentation of the zooplankton stream passing by feeding whales in order to better assess the decision-making of the whales during foraging and the quality of the food layer supporting the whales. This documentation will provide a subsurface tool for supplementing CCS' on-going oceanographic surveys and for “ground-truthing” current estimates of prey patch density and area in Cape Cod Bay.

Issuance of this amendment, as required by the ESA was based on a finding that such permit (1) was applied for in good faith, (2) will not operate to the disadvantage of the endangered species which is the subject of this permit, and (3) is consistent with the purposes and policies set forth in section 2 of the ESA.

Dated: May 8,2001.
Ann D. Terbush,
Chief, Permits and Documentation Division, Office of Protected Resources, National Marine Fisheries Service.

[FR Doc. 01-12077 Filed 5-11-01; 8:45 am]

BILLING CODE 3510-22-S